DEPARTMENT OF JUSTICE

Antitrust Division

Notice Pursuant to the National Cooperative Research and Production Act of 1993—ODVA, Inc.

Notice is hereby given that, on April 01, 2011, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, TMG Technologie and Engineering GmbH, Karlsruhe, GERMANY; Tyco Electronics Corporation, Berwyn, PA; Rosemount Inc., Chanhassen, MN; Sencon Incorporated, Bedford Park, IL; ABOUNDI Inc., Nashua, NH; FACTS, Inc., Cuyahoga Falls, OH; STS Co., Ltd., Yongin-si, Gyeonggi-do, REPUBLIC OF KOREA; MagneMotion Inc., Devens, MA; and ABT EndUstri Enerji Sistemleri Sanayi Tic. Ltd., Sti., Izmir, TURKEY, have been added as parties to this venture.

Also, Perry Slingsby Systems Ltd., North Yorkshire, UNITED KINGDOM; AC&T, Gyeonggi-do, REPUBLIC OF KOREA; F.A. Elec, Seoul, REPUBLIC OF KOREA; METRONIX Corp., Gunpo, Kyunggi-do, REPUBLIC OF KOREA; Trio Motion Technology Ltd., Gloucestershire, UNITED KINGDOM; TOKYO TRON CO., LTD.; TOKYO TRON CO., LTD., Tokyo-to, JAPAN; Alpha Wire, Elizabeth, NJ; and HanYang System, Kyunngido, REPUBLIC OF KOREA, have withdrawn as parties to this venture.

In addition, the following members have changed their names: Moeller GmbH to Eaton Industries GmbH, Bonn, GERMANY; Advanced Energy Japan K.K. to Hitachi Metals, Ltd., Tokyo, JAPAN; and Micro Innovation to Eaton Automation AG, St. Gallen, SWITZERLAND.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on November 15, 2010. A notice was published in the Federal Register pursuant to Section 6(b) of the Act December 17, 2010 (75 FR 79024).

Patricia A. Brink,
Director of Civil Enforcement, Antitrust Division.

[FR Doc. 2011-10466 Filed 4-29-11; 8:45 am]

BILLING CODE 4410-11-M